DEPARTMENT OF COMMERCE

National Oceanic and Atmospheric Administration

[RTID 0648-XC132]

Caribbean Fishery Management Council; Public Meeting

AGENCY: National Marine Fisheries Service (NMFS), National Oceanic and Atmospheric Administration (NOAA), Department of Commerce (DOC).

ACTION: Notice of public hybrid meeting.

SUMMARY: The Caribbean Fishery Management Council's (Council) District Advisory Panels (DAPs) will hold a public hybrid meeting to discuss snapper/grouper deep-water fishing in the U.S. Caribbean and the items contained in the tentative agenda included in the SUPPLEMENTARY INFORMATION.

DATES: The DAPs public hybrid meeting will be held on July 20, 2022, from 9:30 a.m. to 4:30 p.m. All meetings will be at Atlantic Standard Time (AST).

ADDRESSES:

Meeting address: The meeting will be held at the Courtyard by Marriott Isla Verde Resort, at 7012 Boca de Cangrejos Avenue, Carolina, Puerto Rico 00979.

You may join the DAPs public hybrid meeting (via Zoom) from a computer, tablet, or smartphone by entering the following addresses:

Join Zoom Meeting:

https://us02web.zoom.us/j/86262657165?pwd=aGQ4U25rME92d1p1TWo4d3Y3RGFrdz09

Meeting ID: 862 6265 7165.

Passcode: 901759.

One tap mobile:

+17879451488, 86262657165#,,,,*901759# Puerto Rico

+17879667727, 86262657165#,,,,*901759# Puerto Rico

Dial by your location:

+1 787 945 1488 Puerto Rico

+1 787 966 7727 Puerto Rico

+1 939 945 0244 Puerto Rico

Meeting ID: 862 6265 7165.

Passcode: 901759.

FOR FURTHER INFORMATION CONTACT: Miguel Rolón, Executive Director, Caribbean Fishery Management Council, 270 Muñoz Rivera Avenue, Suite 401, San Juan, Puerto Rico 00918-1903; telephone: (787) 398-3717.

SUPPLEMENTARY INFORMATION: The following items included in the tentative agenda are:

July 20, 2022

9:30 a.m.-9:45 a.m.

—Welcome—Marcos Hanke

—Call to Order

—Adoption of Agenda

9:45 a.m.-10:15 a.m.

—Federal and Local Regulations for Deep-Water Snapper/Grouper Fishing—Graciela García-Moliner

—Applicable Trap and Other Fishing Gear Federal Regulations—Jocelyn D'Ambrosio/María del Mar López-Mercer

10:15 a.m.-11:15 a.m.

—Turning Fishing Knowledge into Scientific Information—Jorge R. García-Sáis

—Life History Parameters of Deep-Water Snappers—Stacey Williams

11:15 a.m.-12 p.m.

—Experiences in Deep-Water Fishing

—Puerto Rico—Nelson Crespo

—St. Croix—Edward Schuster

—St. Thomas—Julian Magras

12 p.m.-1:30 p.m.

—Lunch Break

1:30 p.m.-4 p.m.

—Discussion of Topics Discussed in the Morning Session

—Recommendations to the CFMC and Local Governments

4 p.m.-4:30 p.m.

—Other Business

Other than the starting date and time the order of business may be adjusted as necessary to accommodate the completion of agenda items, at the discretion of the Chair. The meeting will begin on July 20, 2022, at 9:30 a.m. AST, and will end on June 20, 2021, at 4:30 p.m. AST.

Special Accommodations

For any additional information on this public virtual meeting, please contact Diana Martino, Caribbean Fishery Management Council, 270 Muñoz Rivera Avenue, Suite 401, San Juan, Puerto Rico, 00918-1903, telephone: (787) 226-8849.

Authority: 16 U.S.C. 1801 et seq.

Dated: June 24, 2022.
Tracey L. Thompson,
Acting Deputy Director, Office of Sustainable Fisheries, National Marine Fisheries Service.

[FR Doc. 2022-13893 Filed 6-28-22; 8:45 am]

BILLING CODE 3510-22-P